FEDERAL MARITIME COMMISSION

Notice of Agreements Filed

The Commission hereby gives notice of the filing of the following agreement under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 201329.

Agreement Name: PDL/PFLG Slot Charter Agreement.

Parties: PDL International Pte. Ltd. and Pacific Forum Line (Group) Limited.

Filing Party: David Monroe; GKG Law, P.C.

Synopsis: The purpose of this agreement is to allow PDL International Pte. Ltd. to charter space to Pacific Forum Line (Group) Limited in the South Pacific trades.

Proposed Effective Date: 12/31/2019.

Location: https://www2.fmc.gov/FMC.Agreements.Web/Public/AgreementHistory/26453.

Dated: January 3, 2020.
Rachel E. Dickon,
Secretary.

[FR Doc. 2020-00114 Filed 1-7-20; 8:45 am]

BILLING CODE 6731-AA-P